DEPARTMENT OF COMMERCE

National Oceanic and Atmospheric Administration

[RTID 0648-XC800]

Atlantic Highly Migratory Species; Atlantic Shark Fishery Review

AGENCY: National Marine Fisheries Service (NMFS), National Oceanic and Atmospheric Administration (NOAA), Commerce.

ACTION: Notice of availability of the final Atlantic shark fishery review (SHARE) document.

SUMMARY: NMFS announces the availability of the final SHARE document. As part of the overall review of the current state of the Atlantic shark fishery, NMFS examined various aspects of commercial and recreational shark fisheries conservation and management, shark depredation, and additional factors affecting the shark fishery. As a comprehensive review of the shark fishery, the SHARE document identifies areas of success and concerns in the fishery and identifies potential future revisions to regulations and management measures. NMFS anticipates that any such revisions to the regulations and/or management measures would occur via future rulemaking, as applicable, and would include appropriate opportunity for public comment.

DATES: The SHARE document was finalized on March 14, 2023.

ADDRESSES: Electronic copies of this document may be obtained on the internet at: https://www.fisheries.noaa.gov/action/atlantic-shark-fishery-review-share.

FOR FURTHER INFORMATION CONTACT: Guy DuBeck (Guy.DuBeck@noaa.gov) or Karyl Brewster-Geisz (Karyl.Brewster-Geisz@noaa.gov) by phone at 301-427-8503.

SUPPLEMENTARY INFORMATION: Atlantic Highly Migratory Species (HMS) fisheries (tunas, billfish, swordfish, and sharks) are managed under the authority of the Magnuson-Stevens Fishery Conservation and Management Act (Magnuson-Stevens Act; 16 U.S.C. 1801 et seq.) and the Atlantic Tunas Convention Act (16 U.S.C. 971 et seq.). The 2006 Consolidated Atlantic HMS Fishery Management Plan (2006 Consolidated HMS FMP) and its amendments are implemented by regulations at 50 CFR part 635.

Under the Magnuson-Stevens Act, NMFS is responsible for the sustainable management of Atlantic HMS (16 U.S.C. 1852(a)(3)). NMFS must comply with all applicable provisions of the Magnuson-Stevens Act when implementing conservation and management measures for shark stocks and fisheries. Under the Magnuson-Stevens Act, conservation and management measures must prevent overfishing while achieving, on a continuing basis, the optimum yield from each fishery (16 U.S.C. 1851(a)(1)). Where a fishery is determined to be in or approaching an overfished condition, NMFS must adopt conservation and management measures to prevent or end overfishing and rebuild the fishery (16 U.S.C. 1853(a)(10); 1854(e)). In addition, NMFS must, among other things, comply with the Magnuson-Stevens Act's 10 National Standards, including a requirement to use the best scientific information available as well as to consider potential impacts on residents of different States, efficiency, costs, fishing communities, bycatch, and safety at sea (16 U.S.C. 1851 (a)(1-10)). Additionally, under the Atlantic Tunas Convention Act, NMFS must implement binding domestic regulations and other measures necessary and appropriate to carry out applicable recommendations of the International Commission for the Conservation of Atlantic Tunas (ICCAT), which has issued recommendations for the conservation and management of shark species caught in association with ICCAT fisheries. NMFS also must implement domestic measures to carry out proposals adopted under the Convention on International Trade in Endangered Species of Wild Fauna and Flora (CITES), which has included measures that place requirements or restrictions on the trade of some shark species and shark fins. The purpose of the SHARE document is to analyze trends within the commercial and recreational shark fisheries to identify main areas of success and concerns with conservation and management measures and find potential ways to improve management of the shark fishery.

Atlantic shark fisheries have been federally managed since 1993. Unlike stock assessments, which focus on abundance of stocks and their status, SHARE focuses on the overall state of these fisheries to assist in determining potential next steps for management. In the document, NMFS refers to “the Atlantic shark fishery” to collectively encompass all of the commercial and recreational fisheries and gear types managed by NMFS HMS Management Division. NMFS began this review after noticing concerning trends in the fishery. In the commercial fishery, trends include reduced landings, a decrease in active vessels, and an increase in shark discards. In the recreational fishery, trends include an increase in catch and release rates, an increase in effort by state-water or shore-based fishermen, increased numbers of shark depredation events, and a decrease in targeted pelagic shark trips. Through the SHARE process, NMFS explored various aspects of the Atlantic shark fisheries to improve stability and resiliency within the fisheries and address the following objectives:

• Review the current state of the Atlantic shark fishery;

• Identify areas of success in the fishery;

• Identify areas of concern in the fishery; and

• Identify potential ways to improve the fishery and potential future shark management actions or measures.

NMFS published a Notice of Availability of the draft SHARE document on October 25, 2021 (86 FR 58891). A public webinar was conducted on December 8, 2021, and the public comment period closed on January 3, 2022. NMFS received 47 written comments and a variety of verbal comments regarding the draft SHARE document. A summary of public comments received is included in the Appendix of the final SHARE document which may be accessed at https://www.fisheries.noaa.gov/action/atlantic-shark-fishery-review-share.

After consideration of public comments, NMFS has finalized the SHARE document. Based on findings outlined in the document, NMFS believes changes to shark fishery management are warranted to improve its overall performance and the health of shark stocks.

As part of SHARE, NMFS reviewed information regarding commercial shark fishery vessel permits, trips targeting or retaining sharks, shark landings, dealer permits, and markets. These data indicate that catch of available quota and participation in the commercial shark fishery have dramatically declined from historical levels. In addition, NMFS anticipates further declines in the future, due to the adoption, in November 2022, of a proposal under CITES to list many shark species in CITES Appendix II. In the recreational shark fishery, NOAA Fisheries reviewed the number of recent permits with shark endorsements, fishing effort, survey data, and tournament landings. These data indicate increased shark fishing effort by state-water and shore-based fishermen, along with increased numbers of sharks being caught and released. Directed trips targeting pelagic sharks and tournament landings have declined since shortfin mako shark size limits were implemented, and are likely to decline further due to the current zero retention limit for shortfin mako sharks. Additionally, shark depredation, which occurs when a shark eats or preys upon fish that are caught on fishing gear, has been a growing concern in a wide variety of commercial and recreational fisheries. While the number of reports of depredation have increased, the underlying cause of the increase is uncertain—it could be due to an increase in the number of sharks as stocks rebuild; a learned behavior by sharks as they recognize motors, fishing techniques, or shark feeding locations as a source of food; an increase in the number of people using social media to report the depredation; or any combination of the above. Lastly, in the SHARE document, NMFS analyzed factors beyond the Federal shark fishery, including other fisheries, Federal and state shark fin sale prohibitions, and binding international recommendations.

Overall, this review has found that NMFS is sustainably managing shark stocks; however, catch and participation in the commercial shark fishery is in decline in terms of the extent of available quota use and the number of participants. This decline is happening despite fishermen having available quotas for many species, and, in most regions, an open season year-round. The review has also identified a need in the recreational fishery to improve species identification, which could improve shark fishery data, thus improving management overall. Additionally, it is likely that other fisheries, state shark fin sale prohibitions, and binding international recommendations directly and indirectly affected fishing effort and landings from 2014 through 2019. Recently enacted Federal shark fin sale prohibitions also are likely to have further impacts on the shark fishery, though the impacts of those prohibitions are unknown at this time. Possible changes that could increase the productivity of the commercial shark fishery while remaining consistent with the Magnuson-Stevens Act and the 2006 Consolidated HMS FMP and its amendments could include modifications to:

• Vessel permit structure, including shifting incidental permits to open-access permits;

• Commercial vessel retention limits for large coastal sharks, blacknose, and other shark management groups;

• Authorized gear types, by including additional gear types to retain sharks in the commercial fishery;

• Regional and sub-regional quotas, to better match regional expectations and opportunities;

• Recreational size and bag limits; and,

• Reporting mechanisms, to improve data collection of recreational shark species and shark depredation events.

NMFS anticipates that management revisions such as those above would occur via future rulemaking to modify HMS regulations, as applicable, with appropriate opportunity for public comment. Making any such changes would take time, but regardless of timing, NMFS believes changes to the shark fishery are warranted to improve the overall health of the fishery and shark stocks.

Authority: 16 U.S.C. 1801 et seq.

Dated: March 15, 2023.
Jennifer M. Wallace,
Acting Director, Office of Sustainable Fisheries, National Marine Fisheries Service.

[FR Doc. 2023-05692 Filed 3-20-23; 8:45 am]

BILLING CODE 3510-22-P